DEPARTMENT OF AGRICULTURE

Forest Service

Notice of Proposed New Fee Sites; Federal Lands Recreation Enhancement Act, (Title VIII, Pub. L. 108-447)

AGENCY: Umpqua National Forest, USDA Forest Service.

ACTION: Notice of Proposed New Fee Sites.

SUMMARY: The Umpqua National Forest is proposing to charge fees at six recreation sites that currently do not charge fees: Ash Flat Forest Camp and Three C Rock campgrounds and the South Umpqua Day Use Area on the Tiller Ranger District; Rujada Group Picnic Site and East Brice Creek/Champion Creek Trailhead on the Cottage Grove Ranger District; and Thielsen View Boat Launch on the Diamond Lake Ranger District. These sites currently meet, or can easily meet, the criteria of an Expanded or Standard Amenity fee. These sites have recently been reconstructed, have added or are scheduled to add amenities to improve services and experiences. Fees are assessed based on the level of amenities and services provided, cost of operation and maintenance, market assessment, and public comment. The fees listed are only proposed and will be determined upon further analysis and public comment. Funds from fees would be used for the continued operation and maintenance of these recreation sites.

Ash Flat Camp is an existing campground that, with the addition of garbage collection, will have seven of the nine amenities (toilet, tables, access, fire ring, fee collection, tent sites, and reasonable visitor protection) of an Expanded Amenity site. Three C Rock was originally a picnic area, but a recently added five-unit campground adjacent to the picnic area now qualifies the site as an Expanded Amenity Site. Garbage service would also be provided at both sites. A financial analysis determined the use fees for these two sites may range between $6.00 and $14.00 per camp unit per night. An additional $3.00 to $5.00 may be charged for each additional vehicle per night.

South Umpqua Day Use Area has all six Standard Amenity improvements including a permanent toilet, garbage receptacle, parking, interpretive signs, picnic tables, and security. Additional facilities include barbeques and an observation deck. A fee vault would be added so recreation users could pay the fee on-site. The fee area would include parking along Road 28 within the designated area. People who park at these turnouts use the Day Use Area and its amenities. Financial analyses based on level of amenities suggest a day use fee of $1.00 to $5.00 per vehicle per day. The site is proposed to become a fee site where the Northwest Forest Pass ($5.00 per day or $30 for an annual pass) or other applicable passes would be accepted.

Rujada Picnic Site is currently a free, day-use area with both group and individual picnic sites and a trailhead recreation site that is frequented by single families as well as large groups. The site provides all six of the Standard Amenity improvements including garbage collection, toilets, tables, parking, interpretive sign, and security as well as recent improvements including the installation of a new potable water line and faucets, and a play ground next to a large open area with horseshoes pits. Based on the level of amenities and the type of use occurring at this site, a Group Day Use reservation and fee is being proposed. There are 2 adjacent Group Use Sites, each with a maximum capacity of 20 to 30 people per site, or 40 to 65 for both sites. Each site will be available to reserve through the Recreation.gov reservation system. Rates being proposed are $25 per day for one site or $50 for both sites. These fees would be required only during the managed season of Memorial Day weekend through Labor Day weekend.

East Brice Trailhead, also known as Champion Creek Trailhead, is currently not a fee site. It is used for parking and access to the adjacent Noonday OHV trail system and 3 adjacent hiker/mountain bike trails. The site provides five of the six Standard Amenity improvements including a permanent toilet, garbage receptacle, parking, interpretive sign, security, and if implemented, the sixth amenity, a picnic table, will be added as well as a fee vault. Financial analyses based on level of amenities suggest a day-use fee of $5.00 per vehicle per day. This site is proposed to become a fee site where the Northwest Forest Pass ($5.00 per day or $30 for an annual pass) or other applicable passes would be accepted. Fees would be required only during the managed season of Memorial Day weekend through October.

Thielsen View Boat Launch, is located within the Thielsen View Campground and is currently not a fee site. It is one of three highly developed boat launches on Diamond Lake. A $5.00 per vehicle/boat trailer per day fee is already charged at the other two boat launches. Improvements and amenities at the boat launch include the double-lane paved ramp, paved parking, mooring dock, toilet, garbage bins, and picnic tables. Financial analyses based on level of amenities suggest a fee of $5.00 or more per vehicle/boat trailer per day. This site is proposed to become a fee site where the Northwest Forest Pass ($5.00 per day or $30 for an annual pass) or other applicable passes would be accepted. Persons already paying overnight camping or lodging fees at other sites on Diamond Lake would not be required to pay a day-use boat launch fee.

DATES: New fees would begin after May 2010 and contingent upon approval of the Recreation Resource Advisory Board. Comments concerning this notice should be received by July 31, 2009.

ADDRESSES: Send written comments to: Bill Blackwell, Umpqua National Forest, 2900 NW. Stewart Parkway, Roseburg, OR 97471. Comments may also be sent via e-mail to: commentspacificnorthwest-umpqua@fs fed. us, or via facsimile to 541-957-3495. Comments may be hand-delivered to the above address Monday through Friday, from 8 a.m. till 4:30 p.m., excluding legal holidays.

FOR FURTHER INFORMATION CONTACT: Bill Blackwell, Assistant Forest Recreation Staff Officer, 541-957-3349. Information about proposed fee changes can also be found on the Umpqua National Forest Web site: http://www.fs.fed.us/r6/umpqua/recreation/index.html.

SUPPLEMENTARY INFORMATION: The Federal Recreation Lands Enhancement Act (Title VII, Pub. L. 108-447) directed the Secretary of Agriculture to publish a six-month advance notice in the Federal Register whenever new recreation fee areas are established. Once public involvement is complete, these new fees will be reviewed by a Recreation Resource Advisory Committee prior to a final decision and implementation.

Dated: June 16, 2009.
Clifford J. Dils,
Forest Supervisor.

[FR Doc. E9-15370 Filed 6-29-09; 8:45 am]

BILLING CODE 3410-11-M